ENVIRONMENTAL PROTECTION AGENCY

40 CFR Part 52

[PA 150-4150; FRL-7043-5]

Approval and Promulgation of Air Quality Implementation Plans; Pennsylvania; Conversion of the Conditional Approval of the 15 Percent Plan for the Pennsylvania Portion of the Philadelphia-Wilmington-Trenton Nonattainment Area to a Full Approval

AGENCY: Environmental Protection Agency (EPA).

ACTION: Final rule.

SUMMARY: EPA is converting its conditional approval of a State Implementation Plan (SIP) revision submitted by the Commonwealth of Pennsylvania to a full approval. The revision is the 15 percent reasonable further progress plan (15% plan) for Pennsylvania's portion of the Philadelphia-Wilmington-Trenton ozone nonattainment area (the Philadelphia area). EPA is converting its approval of this SIP revision from conditional to full approval because the Commonwealth has satisfied the conditions imposed by EPA's prior conditional approval of the Philadelphia 15% plan. The intended effect of this action is to convert EPA's conditional approval of Pennsylvania's 15% plan SIP for the Philadelphia area to a full approval.

EFFECTIVE DATE: This final rule is effective on September 24, 2001.

ADDRESSES: Copies of the documents relevant to this action are available for public inspection during normal business hours at the Air Protection Division, U.S. Environmental Protection Agency, Region III, 1650 Arch Street, Philadelphia, Pennsylvania 19103 or at the Pennsylvania Department of Environmental Protection, Bureau of Air Quality, P.O. Box 8468, 400 Market Street, Harrisburg, Pennsylvania 17105.

FOR FURTHER INFORMATION CONTACT: Brian Rehn at (215) 814-2176, or by e-mail at rehn.brian@epa.gov.

SUPPLEMENTARY INFORMATION:

I. Background

On May 16, 2001 (66 FR 27051), EPA published a notice of proposed rulemaking (NPR) for the Commonwealth of Pennsylvania. The NPR proposed the conversion of EPA's prior conditional approval of Pennsylvania's 15% plan SIP for the Philadelphia area to full approval. The basis for this proposed approval was a formal amendment to Pennsylvania's 15% plan SIP revision that was submitted by Pennsylvania on June 5, 1998. EPA is approving Pennsylvania's 15% plan for its portion of the Philadelphia area, which is based upon an overall air emissions target level of 487.9 tons per day of anthropogenic volatile organic compounds. EPA's rationale for approval of this SIP revision and the specific details of EPA's proposed action are explained in the NPR and will not be restated here. No public comments were submitted on the NPR.

II. Final Action

EPA is converting its prior conditional approval of Pennsylvania's 15% plan for its portion of the Philadelphia-Wilmington-Trenton ozone nonattainment area to a full approval. This action upon Pennsylvania's 15% plan SIP revision for the Philadelphia area serves to convert EPA's prior conditional approval of this SIP revision to a full approval.

III. Administrative Requirements

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves a state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4). This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely approves a state rule implementing a Federal standard, and does not alter the relationship or the distribution of power and responsibilities established in the Clean Air Act. This rule also is not subject to Executive Order 13045 (62 FR 19885, April 23, 1997), because it is not economically significant. In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings'' issued under the executive order. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

C. Petitions for Judicial Review

Under section 307(b)(1) of the Clean Air Act, petitions for judicial review of this action to convert EPA's prior conditional approval of the Philadelphia 15% plan to full approval must be filed in the United States Court of Appeals for the appropriate circuit by October 23, 2001. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Hydrocarbons, Ozone.

Dated: August 16, 2001.
Thomas C. Voltaggio,
Acting Regional Administrator, Region III.

40 CFR part 52 is amended as follows:

PART 52—[AMENDED]

1. The authority citation for part 52 continues to read as follows:

Authority: 42 U.S.C. 7401 et seq.

Subpart NN—Pennsylvania

2. In § 52.2038 the existing text is designated as paragraph (a) and paragraph (b) is added to read as follows:

§ 52.2038 Rate of progress plans: ozone.

* * * * *

(b) EPA grants full approval to the 15 Percent Rate of Progress Plan for Pennsylvania's portion of the Philadelphia-Wilmington-Trenton ozone nonattainment area. The area that is the subject of this action encompasses Bucks, Chester, Delaware, Philadelphia, and Montgomery Counties. The plan was formally submitted to EPA by the Secretary of the Pennsylvania Department of Environmental Protection on September 12, 1996, and was formally revised on April 10, 1997 and June 5, 1998.

§ 52.2026 [Removed and Reserved]

3. Section 52.2026 is removed and reserved.

[FR Doc. 01-21432 Filed 8-23-01; 8:45 am]

BILLING CODE 6560-50-U